DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Preliminary Case Study Assessing Economic Benefits of Marine Debris Reduction.

OMB Control Number: 0648-0756.

Form Number(s): None.

Type of Request: Regular (revision of a currently approved information collection).

Number of Respondents: 1,600.

Average Hours per Response: On-site intercept, 2 minutes; full survey, 10 minutes.

Burden Hours: 729.

Needs and Uses: This request is for revision of a currently approved information collection. A pretest was conducted at one site, and the survey is now being extended to 4 sites.

The National Ocean Service, Office of Response and Restoration, Marine Debris Program is sponsoring this data collection. The Marine Debris Program was created under the 2006 “Marine Debris Research, Prevention, and Reduction Act” (33 U.S.C. 1951 et seq.) which was reauthorized in 2012 as the “Marine Debris Act Amendments of 2012” (H.R. 1171) as part of the Coast Guard Maritime Transportation Act (H.R. 2838). Among other activities, the bill requires NOAA “. . . to address the adverse impacts of marine debris on the United States economy . . .” To that aim, the proposed data collection will support the goals of a larger study whose purpose is to develop a regional economic model to estimate the value to local economies of increased spending on recreation and tourism from the reduction or elimination of marine debris on beaches in seven coastal communities of the continental U.S. The data collection will consist of on-site sampling to generate a pool of respondents who will be sent a mail survey that asks questions related to beach attributes, local beach familiarity, number of beach trips taken, and ratings of marine debris encountered while on these trips. Onsite sampling will involve intercepting people at several beaches in each study area and asking them to participate in a mail survey. For those willing to take the mail survey, a brief onsite interview will ask the respondent's name and mailing address, as well as several demographic questions such as age and education. Those who do not agree to participate in the mail survey will only be asked the demographic questions, whether they participated in a single or multi-day trip, and zip code. A mail-survey mode will be used for the follow-up questionnaire. The mail survey instrument will combine a selection of questions from a previously OMB-approved survey instrument used in Orange County, California with new contingent behavior questions developed specifically for this study to determine the impact of the presence of marine debris on respondents' recreation choices. This data collection will determine the impact of marine debris on survey respondents' recreation choices at these seven coastal communities and represents the first component to be undertaken as part of the larger study.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 16, 2018.
Sarah Brabson,
NOAA PRA Clearance Officer.

[FR Doc. 2018-10746 Filed 5-18-18; 8:45 am]

BILLING CODE 3510-JE-P